DEPARTMENT OF JUSTICE

[AAG/A Order No. 012-2004]

Privacy Act of 1974, System of Records

The Department of Justice (DOJ), Justice Management Division (JMD), proposes to modify the Employee Assistance Program (EAP) Treatment and Referral Records, Justice/JMD-016, to correct typographical errors and add previously omitted language.

These minor changes do not require a comment period or notification to OMB and the Congress. The modifications will be effective September 1, 2004. Questions regarding the modification may be directed to Mary Cahill, Management Analyst, Management and Planning Staff, Justice Management Division (JMD), Department of Justice, Washington, DC 20530.

The modifications to the system description are set forth below.

Dated: August 26, 2004.
Joanne W. Simms,
Deputy Assistant Attorney General, Human Resources Administration.

JUSTICE/JMD-016

SYSTEM NAME:

Employee Assistance Program (EAP) Counseling and Referral Records, Justice/JMD-016.

[Insert after System Name the following heading.]

SYSTEM CLASSIFICATION:

Not classified.

SYSTEM LOCATION:

[Delete current entry and substitute the following.]

The Justice Management Division, EAP staff, maintains records. Interested parties wishing to correspond regarding records should direct their inquiries to the EAP System Manager, DOJ Workforce Support Group, Justice Management Division, U.S. Department of Justice, 950 Pennsylvania Ave., NW., Washington, DC 20530, or call (202) 514-1846.

* * * * *

PURPOSE OF THE SYSTEM:

* * * * *

[Delete final phrase under the heading “Purpose” and make it a new heading to read as follows:]

ROUTINE USES OF RECORDS MAINTAINED IN THE SYSTEM, INCLUDING CATEGORIES OF USERS AND THE PURPOSES OF SUCH USES:

* * * * *

[Insert after Routine Uses the following heading:]

DISCLOSURE TO CONSUMER REPORTING AGENCIES:

Not Applicable.

* * * * *

SYSTEM MANAGER(S) AND ADDRESS:

[Delete current entry and substitute the following.]

DOJ Workforce Support Group, Assistant Director, Justice Management Division, U.S. Department of Justice, 950 Pennsylvania Ave., NW., Washington, DC 20530, or call (202) 514-1846.

NOTIFICATION PROCEDURES:

[Replace current sentence with the following.]

Same as Record Access Procedures.

* * * * *

CONTESTING RECORD PROCEDURES:

[Replace the first sentence in the current language with the following.]

Direct all requests to contest or amend information to the EAP System Manager identified above. [Continue with the remainder of the paragraph.] * * *

* * * * *

[FR Doc. 04-19875 Filed 8-31-04; 8:45 am]

BILLING CODE 4410-CG-P